DEPARTMENT OF EDUCATION

Notice of Submission for OMB Review; Office of Innovation and Improvement; School Leadership Program (SLP) Annual Performance Report

SUMMARY: The School Leadership Program (SLP) provides grants to assist high-need local educational agencies (LEAs) with recruiting, training, and retaining principals and assistant principals. The overall goals of the SLP are to assist high-need LEAs with (1) recruiting, preparing, and retaining new principals and assistant principals and (2) improving the skills and retention of currently practicing principals and assistant principals.

DATES: Interested persons are invited to submit comments on or before July 5, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04834. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Leadership Program (SLP) Annual Performance Report.

OMB Control Number: 1855-0019.

Type of Review: Extension.

Total Estimated Number of Annual Responses: 22.

Total Estimated Number of Annual Burden Hours: 880.

Abstract: The information in the SLP Annual Performance Report (APR) is collected in compliance with the Elementary and Secondary Education Act of 1965, as amended, Title II, Part A, Subpart 5; 20 U.S.C. 2151(b), the Government Performance and Results Act (GPRA) of 1993, Section 4 (1115), and the Education Department General Administrative Regulations (EDGAR), 34 CFR 75.253. EDGAR states that recipients of multi-year discretionary grants must submit an APR demonstrating that substantial progress has been made toward meeting the approved objectives of the project. In addition, discretionary grantees are required to report on their progress toward meeting the performance measures established for the U.S. Department of Education School Leadership Program. There are two GPRA performance objectives and six performance measures for SLP grantees. The objectives are (1) to recruit, prepare, and support individuals from education or other fields to become principals or assistant principals of schools in high-need LEAs and (2) to train and support principals and assistant principals from schools in high-need LEAs in order to improve their skills and increase retention. Most grantees will report on the GPRA measures for only one of the objectives because most grantees focus on either recruiting and training new principals and assistant principals or providing training to currently practicing principals and assistant principals. The SLP APR is a customized APR that goes beyond the ED 524B APR; this data collection is requested to facilitate the collection of more standardized and comprehensive data to address the program's GPRA measures, to improve the overall quality of data collected, and to increase the quality of data that can be used to inform policy decisions.

Dated: May 31, 2012.
Darrin A. King,
Director, Information Collection Clearance Division, Privacy, Information and Records Management Services, Office of Management.

[FR Doc. 2012-13533 Filed 6-4-12; 8:45 am]

BILLING CODE 4000-01-P